ENVIRONMENTAL PROTECTION AGENCY

[FRL-7075-1]

Agency Information Collection Activities: Submission for OMB Review; Comment Request; Reporting and Recordkeeping Activities Associated With EPA's PFC Emission Reduction Partnership for the Semiconductor Industry

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Reporting and Recordkeeping Activities Associated With EPA's PFC Emission Reduction Partnership for the Semiconductor Industry, OMB Control Number 2060-0382, expiration date September 30, 2001. The ICR describes the nature of the information collection and its expected burden and cost, where appropriate, it includes the actual data collection instrument.

DATES: Comments must be submitted on or before November 5, 2001.

ADDRESSES: Send comments, referencing EPA ICR No. 1823.02 and OMB Control No. 2060-0382, to the following addresses: Susan Auby, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 260-4901, by E-mail at auby.susan@epamail.epa.gov, or download off the Internet athttp://www.epa.gov/icr and refer to EPA ICR No. 1823.02. For technical questions about the ICR contact Scott Bartos at (202) 564-9167.

SUPPLEMENTARY INFORMATION: Title: PFC Emission Reduction Partnership for the Semiconductor Industry, OMB Control No. 2060-0382, EPA ICR No. 1823.02, expiration date September 30, 2001. This is a request for extension of a currently approved collection.

Abstract: Following the 1993 introduction of the Climate Change Action Plan, U.S. EPA's Office of Atmospheric Programs launched the PFC Emission Reduction Partnership for the Semiconductor Industry. This important voluntary program contributes to the country's overall reduction in greenhouse gas emissions. Like Energy Star Buildings and the Voluntary Aluminum Industrial Partnership, the PFC Emission Reduction Partnership for the Semiconductor Industry is a voluntary effort aimed at preventing pollution before it is generated. These voluntary programs all focus on reducing greenhouse gas emissions and tracking progress by collecting information from partners on a periodic basis. The PFC Emissions Reduction Partnership for the Semiconductor Industry is a voluntary, non-regulatory program that supports the industry's efforts to reduce perfluorocompound (PFC) emissions.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on June 25, 2001, ( 66 FR 33680); no comments were received.

Burden Statement: The annual public reporting and record keeping burden for this collection of information is estimated to average 598 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Semiconductor manufacturers.

Estimated Number of Respondents: 25.

Frequency of Response: Annually.

Estimated Total Annual Hour Burden: 14,950 hours.

Estimated Total Annualized Capital, O&M Cost Burden: $139,000.

Send comments on the Agency's need for this information, the accuracy of the provided burden estimates, and any suggested methods for minimizing respondent burden, including through the use of automated collection techniques to the addresses listed above. Please refer to EPA ICR No. 1823.02 and OMB Control No. 2060-0382 in any correspondence.

Dated: September 26, 2001.
Oscar Morales,
Director, Collection Strategies Division.

[FR Doc. 01-25002 Filed 10-4-01; 8:45 am]

BILLING CODE 6560-50-P